DEPARTMENT OF STATE

[Delegation of Authority No. 400]

Delegation to the Assistant Secretary of State for Educational and Cultural Affairs of the Functions and Authorities Under the Protect and Preserve International Cultural Property Act

By virtue of the authority vested in the Secretary of State by the laws of the United States, including Section 1 of the State Department Basic Authorities Act and the Presidential Memorandum for the Secretary of State—Delegation of Functions and Authorities under the Protect and Preserve International Cultural Property Act, dated August 1, 2016, and delegated pursuant to Delegation of Authority No. 245-1 (February 13, 2009), I hereby delegate to the Assistant Secretary of State for Educational and Cultural Affairs the functions and authorities of the President under the Protect and Preserve International Cultural Property Act (Pub. L. 114-151) delegated to the Secretary of State.

In performing such functions, the Assistant Secretary of State shall consult the Secretary of Homeland Security, the Secretary of the Treasury, and the heads of other departments and agencies or their designees, as appropriate.

Notwithstanding this delegation of authority, the Secretary of State, the Deputy Secretary of State, the Deputy Secretary of State for Management and Resources, and the Under Secretary of State for Public Diplomacy and Public Affairs may at any time exercise any function or authority delegated by this delegation of authority.

Any act, executive order, regulation or procedure subject to, or affected by, this delegation shall be deemed to be such act, executive order, regulation or procedure as amended from time to time.

This delegation of authority shall be published in the Federal Register.

Dated: August 1, 2016.
Heather A. Higginbottom,
Deputy Secretary of State for Management and Resources.

[FR Doc. 2016-19397 Filed 8-12-16; 8:45 am]

BILLING CODE 4710-05-P